DEPARTMENT OF JUSTICE

Antitrust Division

Notice Pursuant to The National Cooperative Research and Production Act of 1993—Naval Surface Technology & Innovation Consortium

Notice is hereby given that, on November 11, 2020, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, 14bis Supply Tracking, Burlington, MA; Abaco Systems, Huntsville, AL; ADA Technologies, Inc., Littleton, CO; Advanced Technology and Research Corporation, Beltsville, MD; Advanced Technology Systems Company, McLean, VA; Advanced Thermal Batteries Inc. (ATB), Westminster, MD; Aero Simulation, Inc., Tampa, FL; AimLock, Littleton, CO; Amazon Web Services, Seattle, WA; American Ordnance, LLC, Middletown, IA; Analog Devices Federal, LLC, Chelmsford, MA; Analytical Graphics, Inc. (AGI), Exton, PA; Applied Management Corporation, Oxon Hill, MD; ARMSTEL, Inc., Plano, TX; ARTEMIS Inc., Hauppauge, NY; Austal USA, LLC, Mobile, AL; AZT Technology, Naples, FL; BAE Systems Information and Electronic Systems Integration, Inc. (Nashua, NH), Nashua, NH; Ball Aerospace, Broomfield, CO; Bally Ribbon Mills, Bally, PA; Black Fur Industries, LLC, Tuscon, AZ; Black Knight Technology, Inc., Fredericksburg, VA; Block MEMS, LLC, Southborough, MA; Bowhead Manufacturing Technologies, LLC, Plano, TX; Calnetix Technologies, Cerritos, CA; Capco, LLC, Grand Junction, CO; Carahsoft Technology Corporation, Reston, VA; Cervello Technologies, LLC, Clearwater, FL; CGI Federal Inc., Fairfax, VA; Charles River Analytics, Cambridge, MA; Cobham Advanced Electronic Solutions, Inc., Lansdale, PA; Cobham Missions Systems Orchard Park, Orchard Park, NY; Coherent Technical Services, Inc., Lexington Park, MD; CS Squared LLC, Glendale, AZ; D&K Engineering, San Diego, CA; Dark Wolf Solutions, LLC, Herndon, VA; DataSoft Corp., Tempe, AZ; Del Sigma Technologies, Rockford, MI; Dell Federal Systems, L.P., Round Rock, TX; Deloitte Consulting, LLP, Arlington, VA; Design Automation Associates, Inc., Windsor Locks, CT; Dragonfly Pictures, Inc., Essington, PA; DRS Sustainment Systems, Inc., Bridgeton, MO; Echo Ridge, LLC, Sterling, VA; ECS Federal, LLC, Fairfax, VA; EndoSec, LLC, Washington, DC; Enduralock, LLC, Lenexa, KS; Engineering Research and Consulting, Inc., Huntsville, AL; EPIRUS INC., Hawthorne, CA; Expanse, Inc., San Francisco, CA; Fenix Group, Inc., Chantilly, VA; Flex Force Enterprises, Inc., Portland, OR; Friedman Research Corporation, Austin, TX; G.D.O., Inc., Elk River, MN; GAR Systems, LLC., Lavallette, NJ; GATR Technologies, Huntsville, AL; GenOne Technologies, LLC, Cambridge, MA; Gleason Research Associates Incorporated, Huntsville, AL; Global Ordnance, LLC, Sarasota, FL; Government Energy Solutions, Inc., Huntsville, AL; Green Hills Software, LLC, Santa Barbara, CA; High Energy Metals, Inc., Sequim, WA; Hill Park Engineering, Inc., BELTSVILLE, MD; Hyperion Technology Group, Inc., Tupelo, MS; IBC Materials & Technologies, Lebanon, IN; IDEMIA National Security Solutions, LLC, Alexandria, VA; InnoSense, LLC, Torrance, CA; Insight International Technology, Huntsville, AL; Intellisense, Inc., Torrance, CA; IOMAXIS, LLC, Lorton, VA; IT Mentor Group, Inc., San Diego, CA; Johns Hopkins Applied Physics Laboratory, LLC, Laurel, MD; Jupiter, LLC, Silver Spring, MD; Kaman Aerospace Corporation dba Kaman Precision Products Division, Middletown, CT; Kern Technology Group, LLC, Virginia Beach, VA; KIHOMAC, Inc., Reston, VA; Kitty Hawk Technologies, LLC, Honesdale, PA; Kowalski Heat Treating, Cleveland, OH; L3Harris Technologies/Power Paragon, Inc., Anaheim, CA; Lockheed Martin Advanced Technology Laboratories, Cherry, NJ; Mainstream Engineering, Rockledge, FL; Mandus Group, LLC, Rock Island, IL; Materials Research and Design, Inc., Wayne, PA; MEI Micro, Inc., Addison, NY; Merrill Technologies Group, Inc., Saginaw, MI; Micro Focus Government Solutions, Vienna, VA; Miltope Corporation, Hope Hull, AL; Mobilestack Inc, Dublin, CA; Nahsai LLC, Houston, TX; NanoflowX, Commerce, CA; NCI Information Systems, Inc., Reston, VA; NextGen Federal Systems, LLC, Morgantown, WV; Nobles Worldwide, St Croix Falls, WI; Norseman Defense Services, Inc., Elkridge, MD; nou Systems, Inc., Huntsville, AL; NTA, Inc., Huntsville, AL; Nuvotronics, Inc., Durham, NC; Onodi Tool & Engineering, Melvindale, MI; Orbital Research, Inc., Cleveland, OH; Orolia Government Systems, Inc., Rochester, NY; Oteemo, Inc., Chantilly, VA; Palo Alto Networks Public Sector, LLC, Reston, VA; Park Aerospace Corp., Westbury, NY; Perspecta Labs, Basking Ridge, NJ; Prasad, Sarita (IMS-PRO), Albuquerque, NM; Precision Custom Components, LLC, York, PA; Progeny Systems Corporation, Manassas, VA; R2 Space, Inc., Fairfax, VA; Rebellion Defense, Inc., Washington, DC; Red Hat, Inc. (with Red Hat Professional Consulting, Inc.), Raleigh, NC; ReLogic, Huntsville, AL; Resource Management Concepts, Inc. (RMC), Lexington Park, MD; RIX Industries, Benicia, CA; Rocal Corp. dba Rebling Plastics, Warrington, PA; RWC, LLC, Annapolis, MD; Sancorp Consulting, LLC, Arlington, VA; Scientific Systems Company, Inc., Woburn, MA; Shield AI, Inc., San Diego, CA; Sidus Solutions, LLC, San Diego, CA; Siemens Energy, Inc., Orlando, FL; Silvus Technologies, Inc., Los Angeles, CA; Solutions Development Corporation, La Plata, MD; Southern Research Institute, Birmingham, AL; Spark Insights, LLC, Tampa, FL; Spear Power Systems, Inc., Grandview, MO; Synergistic, Inc., New Baltimore, MI; Synthetik Applied Technologies, LLC., Pierre, SD; Tech-X Corporation, Boulder, CO; Teledyne RISI, Inc., Tracy, CA; TETAC Incorporated, Monterey, CA; The DiSTI Corporation, Orlando, FL; The NAVSYS Corporation, Colorado Springs, CO; ThinKom Solutions, Inc., Hawthorne, CA; Thunder Bay Consulting, LLC, Summerville, SC; Trident Technical Solutions dba Ardent Eagle Solutions, Tampa, FL; UberEther, Inc., Sterling, VA; Ultra Electronics Advanced Tactical Systems, Inc., Austin, TX; Ultra Electronics Herley, Lancaster, PA; Universal Technical Resource Services, Inc., Cherry Hill, NJ; Vector ElectroMagnetics, LLC, Xenia, OH; VersaTOL, LLC, Mcdonough, GA; VetAble Technologies, LLC, Brandon, FL; Viasat, Inc., Carlsbad, CA; Virginia Tech Applied Research Corporation, Arlington, VA; Virtualitics, Inc., Pasadena, CA; VMware, Inc., Palo Alto, CA; Williams International Co., L.L.C., Pontiac, MI; and Wind River, Alameda, CA, have been added as parties to this venture and the members of the National Armaments Consortium (NAC), whose last filing can be found at (85 FR 68916).

Also, Bruker Detection Corporation, Billerica, MA; Grey Matters Defense Solutions, LLC, Castle Rock, CO; JOHN H NORTHROP & ASSOCIATES INC (JHNA), Clifton, VA; RPI Group, Inc., Fredericksburg, VA; and X-Feds, San Diego, CA have withdrawn as parties to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on July 7, 2020. A notice was published in the Federal Register pursuant to Section 6(b) of the Act on July 31, 2020 (85 FR 46179).

Suzanne Morris,
Chief, Premerger and Division Statistics, Antitrust Division.

[FR Doc. 2020-25745 Filed 11-20-20; 8:45 am]

BILLING CODE 4410-11-P